DEPARTMENT OF DEFENSE

Department of the Army

[Docket ID USA-2011-0014]

Privacy Act of 1974; System of Records

AGENCY: Department of the Army, DoD.

ACTION: Notice to alter a system of records.

SUMMARY: Department of the Army is altering a system of records notice in its existing inventory of record systems subject to the Privacy Act of 1974 (5 U.S.C. 552a), as amended.

DATES: This proposed action will be effective without further notice on July 20, 2011 unless comments are received which result in a contrary determination.

ADDRESSES: You may submit comments, identified by docket number and/Regulatory Information Number (RIN) and title, by any of the following methods:

• Federal Rulemaking Portal: http://www.regulations.gov. Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905 or by phone at (703) 428-6185.

SUPPLEMENTARY INFORMATION: Department of the Army notices for systems of records subject to the Privacy Act of 1974 (5 U.S.C. 552a), as amended, have been published in the Federal Register and are available from the address above.

The proposed system report, as required by 5 U.S.C. 552a(r) of the Privacy Act of 1974, as amended, was submitted on June 10, 2011 to the House Committee on Government Reform, the Senate Committee on Homeland Security and Governmental Affairs, and the Office of Management and Budget (OMB) pursuant to paragraph 4c of Appendix I to OMB Circular No. A-130, “Federal Agency Responsibilities for Maintaining Records About Individuals,” February 20, 1996, 61 FR 6427.

Dated: June 13, 2011.
Aaron Siegel,
Alternate OSD Federal Register Liaison Officer, Department of Defense.

A0056-9 TRADOC

System Name:

Marine Qualification Records (July 25, 2008, 73 FR 43419).

Changes:

* * * * *

System name:

Delete entry and replace with “Maritime Qualification Records.”

System location:

Delete entry and replace with “Director, Office of the Chief Transportation, Maritime Qualification Division, 461 Kerr Road, Fort Eustis, VA 23604-5498.”

Categories of individuals covered by the system:

Delete entry and replace with “Military and civilians employed by Army.

Categories of records in the system:

Delete entry and replace with “Name, Social Security Number (SSN), grade, primary military occupational specialty, unit, skill level, individual's request for examination, test results, character and suitability statements, physical qualification reports, experience qualifications and evaluations, commander's recommendation, Marine Qualification Board recommendation and final action thereon, U.S. Army Marine Licenses.

* * * * *

Safeguards:

Delete entry and replace with “Electronically and optically stored records are maintained in `fail-safe' system software with password-protected access. Records are accessible only to authorized persons with a need-to-know. Electronic records are stored on the server. Use of Common Access Card (CAC) is used to authenticate and lock out unauthorized access. Paper records are maintained in locked file cabinets in a secure building and are accessible only to authorized personnel.”

Retention and disposal:

Delete entry and replace with “Records are maintained for 40 years then destroyed by electronically deleting and shredding paper copies. Registers are destroyed by electronic deletion 40 years after the date of the last entry in the register. Records are electronically deleted from the system and paper copies are shredded. Paper records are maintained in locked file cabinets in a secure building and are accessible only to authorized personnel.”

System manager(s) and address:

Delete entry and replace with “Director, Office of the Chief Transportation, Maritime Qualification Division, 461 Kerr Road, Fort Eustis, VA 23604-5498.”

Notification procedure:

Individuals seeking to determine whether information about themselves is contained in this system should address written inquiries to the Director, Office of the Chief Transportation, Maritime Qualification Division, 461 Kerr Road, Fort Eustis, VA 23604-5498.

Individual should furnish name, SSN, address and any additional details that will facilitate locating the information. Request must be signed.

In addition, the requester must provide a notarized statement or an unsworn declaration made in accordance with 28 U.S.C. 1746, in the following format:

If executed outside the United States: “I declare (or certify, verify, or state) under penalty of perjury under the laws of the United States of America that the foregoing is true and correct. Executed on (date). (Signature)”.

If executed within the United States, its territories, possessions, or commonwealths: “I declare (or certify, verify, or state) under penalty of perjury that the foregoing is true and correct. Executed on (date). (Signature)”.

Record access procedures:

Individuals seeking access to information about themselves contained in this system should address written inquiries to the Director, Office of the Chief Transportation, Maritime Qualification Division, 461 Kerr Road, Fort Eustis, VA 23604-5498.

Individuals should furnish name, SSN, address and any additional details that will facilitate locating the information. Request must be signed.

In addition, the requester must provide a notarized statement or an unsworn declaration made in accordance with 28 U.S.C. 1746, in the following format:

If executed outside the United States: “I declare (or certify, verify, or state) under penalty of perjury under the laws of the United States of America that the foregoing is true and correct. Executed on (date). (Signature)”.

If executed within the United States, its territories, possessions, or commonwealths: “I declare (or certify, verify, or state) under penalty of perjury that the foregoing is true and correct. Executed on (date). (Signature)”.

* * * * *

A0056-9 TRADOC

System name:

Maritime Qualification Records.

System location:

Director, Office of the Chief of Transportation, Maritime Qualification Division, 461 Kerr Road, Fort Eustis, VA 23604-5498.

Categories of individuals covered by the system:

Military and civilians employed by Army.

Categories of records in the system:

Name, Social Security Number (SSN), grade, primary military occupational specialty, unit, skill level, individual's request for examination, test results, character and suitability statements, physical qualification reports, experience qualifications and evaluations, commander's recommendation, Marine Qualification Board recommendation and final action thereon, U.S. Army Marine Licenses.

Authority for maintenance of the system:

10 U.S.C. 3013, Secretary of the Army; Army Regulation 56-9, Watercraft; and E.O. 9397 (SSN), as amended.

Purpose(s):

To evaluate and recommend appropriate action concerning the issuance, denial, suspension, or revocation of U.S. Army Marine Licenses; to award certification to individuals passing the marine qualification examination; to monitor test content and procedures to ensure that tests are valid and current; to award Special Qualification Identifiers to appointed Marine Qualification Field Examiners; to review marine casualty reports, incident reports, and investigations to re-evaluate qualifications of persons involved; and to maintain Marine Service Records.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The U.S. Coast Guard, Department of Transportation may be furnished information concerning certification and licensing of individuals.

The DoD “Blanket Routine Uses” set forth at the beginning of the Army's compilation of system of record notices apply to this record system.

Policies and practices for storing, retrieving, accessing, retaining, and disposing of records in the system:

Storage:

Paper records in file folders and electronic storage media.

Retrievability:

By individual's surname and Social Security Number (SSN).

Safeguards:

Electronically and optically stored records are maintained in `fail-safe' system software with password-protected access. Records are accessible only to authorized persons with a need-to-know. Electronic records are stored on the server. Use of Common Access Card (CAC) is used to authenticate and lock out unauthorized access. Paper records are maintained in locked file cabinets in a secure building and are accessible only to authorized personnel.

Retention and disposal:

Records are maintained for 40 years then destroyed by electronically deleting and shredding paper copies. Registers are destroyed by electronic deletion 40 years after the date of the last entry in the register. Records are electronically deleted from the system and paper copies are shredded. Paper records are maintained in locked file cabinets in a secure building and are accessible only to authorized personnel.

System manager(s) and address:

Director, Office of the Chief Transportation, Maritime Qualification Division, 461 Kerr Road, Fort Eustis, VA 23604-5498.

Notification procedure:

Individuals seeking to determine whether information about themselves is contained in this system should address written inquiries to the Director, Office of the Chief Transportation, Maritime Qualification Division, 461 Kerr Road, Fort Eustis, VA 23604-5498.

Individual should furnish name, SSN, address and any additional details that will facilitate locating the information. Request must be signed.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking access to information about themselves contained in this system should address written inquiries to the Director, Office of the Chief Transportation, Maritime Qualification Division, 461 Kerr Road, Fort Eustis, VA 23604-5498.

Individual should furnish name, SSN, address and any additional details that will facilitate locating the information. Request must be signed.

In addition, the requester must provide a notarized statement or an unsworn declaration made in accordance with 28 U.S.C. 1746, in the following format:

If executed outside the United States: “I declare (or certify, verify, or state) under penalty of perjury under the laws of the United States of America that the foregoing is true and correct. Executed on (date). (Signature)”.

If executed within the United States, its territories, possessions, or commonwealths: “I declare (or certify, verify, or state) under penalty of perjury that the foregoing is true and correct. Executed on (date). (Signature)”.

Contesting record procedures:

The Army's rules for accessing records, and for contesting contents and appealing initial agency determinations are contained in Army Regulation 340-21; 32 CFR part 505; or may be obtained from the system manager.

Record source categories:

From the individual, military and civilian personnel records and reports, civilian maritime records, U.S. Coast Guard, commanders and vessel masters, and other appropriate sources able to furnish relevant information.

Exemptions claimed for the system:

None.

[FR Doc. 2011-15272 Filed 6-17-11; 8:45 am]

BILLING CODE 5001-06-P